DEPARTMENT OF THE INTERIOR

National Park Service

[NPS-WASO-NAGPRA-NPS0034235; PPWOCRADN0-PCU00RP14.R50000]

Notice of Intent To Repatriate Cultural Items: Mattatuck Museum, Waterbury, CT

AGENCY: National Park Service, Interior.

ACTION: Notice.

SUMMARY: The Mattatuck Museum, in consultation with the appropriate Indian Tribes or Native Hawaiian organizations, has determined that the cultural item listed in this notice meets the definition of a sacred object. Lineal descendants or representatives of any Indian Tribe or Native Hawaiian organization not identified in this notice that wish to claim this cultural item should submit a written request to the Mattatuck Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Mattatuck Museum at the address in this notice by August 22, 2022.

FOR FURTHER INFORMATION CONTACT: Cecelia Feldman, Mattatuck Museum, 144 West Main Street, Waterbury, CT 06702, telephone (203) 753-0381 Ext. 115, email keffie@mattmuseum.org.

SUPPLEMENTARY INFORMATION: Notice is here given in accordance with the Native American Graves Protection and Repatriation Act (NAGPRA), 25 U.S.C. 3005, of the intent to repatriate a cultural item under the control of the Mattatuck Museum, Waterbury, CT, that meets the definition of a sacred object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

This object is a thirteen-inch-long rattle made from a snapping turtle shell with a wooden handle attached to the base. Red and green string is wrapped around the handle, which obscures the head of the snapping turtle. Red paint has been applied to the underside of the turtle shell. Text on the underside states: “SENECAS TURKEY FORD OKLA. MARY LOGAN 67.29.5.” The accession number of this object indicates it came to the museum in 1967. The text written on the object indicates an origin in Turkey Ford, Oklahoma, a town associated with the Seneca-Cayuga Nation. Mary Logan is a well-documented ceremonial leader from this community. Beyond the text associated with this object, the Mattatuck Museum holds no additional records concerning the provenance of the object.

Determinations Made by the Mattatuck Museum

Officials of the Mattatuck Museum have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the sacred object and the Seneca-Cayuga Nation (previously listed as Seneca-Cayuga Tribe of Oklahoma).

Additional Requestors and Disposition

Lineal descendants or representatives of any Indian Tribe or Native Hawaiian organization not identified in this notice that wish to claim this cultural item should submit a written request with information in support of the claim to Cecelia Feldman, Mattatuck Museum, 144 West Main Street, Waterbury, CT 06702, telephone (203) 753-0381 Ext. 115, email keffie@mattmuseum.org, by August 22, 2022. After that date, if no additional claimants have come forward, transfer of control of the sacred object to the Seneca-Cayuga Nation (previously listed as Seneca-Cayuga Tribe of Oklahoma) may proceed.

The Mattatuck Museum is responsible for notifying the Seneca-Cayuga Nation (previously listed as Seneca-Cayuga Tribe of Oklahoma) that this notice has been published.

Dated: July 13, 2022.
Melanie O'Brien,
Manager, National NAGPRA Program.

[FR Doc. 2022-15550 Filed 7-20-22; 8:45 am]

BILLING CODE 4312-52-P